DELAWARE RIVER BASIN COMMISSION

Notice of Commission Meeting and Public Hearing

Notice is hereby given that the Delaware River Basin Commission will hold an informal conference followed by a public hearing on Wednesday, July 14, 2010. The hearing will be part of the Commission's regular business meeting. The conference session and business meeting both are open to the public and will be held at the West Trenton Volunteer Fire Company, located at 40 West Upper Ferry Road, West Trenton, New Jersey.

The conference among the commissioners and staff will begin at 10:30 a.m. and will consist of a presentation on the pass-by flow study being conducted by the Susquehanna River Basin Commission in partnership with The Nature Conservancy and a presentation by the U.S. Fish and Wildlife Service on the Delaware River Dwarf Wedgemussel Habitat Study.

The subjects of the public hearing to be held during the 1:30 p.m. business meeting include the dockets listed below:

1. City of Burlington, D-1973-046 CP-2. An application for a surface water withdrawal (SWWD) project to reduce the total system allocation from 120 million gallons per month (mgm) to 80 mgm from existing Intakes Nos. 2 and 3. The project is located in the Delaware River Watershed in the City of Burlington, Burlington County, New Jersey.

2. Town of Bethel—Kauneonga Lake, D-1974-196 CP-2. An application for the approval of an existing 0.6 million gallons per day (mgd) discharge from the Kauneonga Lake WWTP. The Kauneonga Lake WWTP discharges to the Delaware River at River Mile 261.10—16.21—5.43 (Delaware River—Mongaup River—White Lake Brook) and is located in the Town of Bethel, Sullivan County, New York. The project is located within the drainage area of the section of the Delaware River known as the Upper Delaware, which is classified as Special Protection Waters.

3. Pottstown Borough Authority, D-1989-055 CP-2. An application for the renewal of an existing 12.85 mgd discharge from Outfall No. 001. Additionally, the applicant has requested a Total Dissolved Solids (TDS) Determination, which is required for any discharge of more than 1,000 mg/l (the basin-wide monthly average effluent limit). The monthly average and daily maximum TDS effluent limit concentrations requested are 2,235 mg/l and 3,000 mg/l, respectively. The project will continue to discharge to the Schuylkill River at River Mile 92.47—51.3 (Delaware River—Schuylkill River) in the Borough of Pottstown, Montgomery County, Pennsylvania.

4. Honey Brook Borough Authority, D-1991-099 CP-2. An application for renewal of an existing groundwater withdrawal project to continue to supply up to 12 mgm of water to the applicant's public water supply system from existing Wells Nos. 5, 6, 7, and 8. The project wells are completed in Precambrian-gneiss. The project is located in the West Branch Brandywine Creek Watershed in Honeybrook Township, Chester County, Pennsylvania.

5. Hamburg Municipal Authority, D-1992-073 CP-3. An application for approval of the Hamburg Municipal Authority WWTP. The project WWTP was approved by DRBC Docket No. D-1992-73 CP-2 on March 1, 2006; however, the docket expired on September 30, 2009. The project WWTP will continue to discharge 1.5 mgd of treated sewage effluent to the Schuylkill River. The facility is located in the Borough of Hamburg, Berks County, Pennsylvania.

6. Hatfield Quality Meats, LLC, D-1999-072-2. An application for the renewal of a groundwater withdrawal to supply up to 20.57 mgm of water to the docket holder's meat processing system from Wells Nos. H-1, H-3, H-4, H-8, H-10, and H-12. No increase in the current allocation is proposed. The six project wells are constructed in the Brunswick Formation. The project is located in the Upper Reach Skippack Creek Watershed in Hatfield Township, Montgomery County, Pennsylvania and is located in the Southeastern Pennsylvania Ground Water Protected Area.

7. Borough of Dublin, D-2000-011 CP-2. An application for the renewal of a groundwater withdrawal to continue the withdrawal of up to 7.13 mgm to supply the docket holder's public water supply from existing Wells Nos. 1, 2, 3, and 5 in the Lockatong Formation and Brunswick Group. The project is located in the East Branch Perkiomen—Morris Run and Tohickon Deep Run watersheds in the Borough of Dublin, Bucks County, Pennsylvania, within the Southeastern Pennsylvania Ground Water Protected Area.

8. United Mobile Homes, D-2005-003-2. An application for approval to continue discharging 79,500 gallons per day (gpd) of treated effluent from the Kinnebrook WWTP. The WWTP is located at River Mile 261.1—16.0—3.62—1.17 (Delaware River—Mongaup River—Kinne Brook—Unnamed Tributary). The facility discharges to an unnamed tributary of Kinne Brook, and is located in the drainage area of the section of the non-tidal Delaware River known as the Upper Delaware, which is classified as Special Protection Waters. The project is located in the Town of Thompson, Sullivan County, New York.

9. Camp Ramah in the Poconos, D-2005-030-2. An application for approval of the Camp Ramah in the Poconos WWTP. The project WWTP was approved by DRBC Docket No. D-2005-030-001 on March 1, 2006; however, the docket expired on April 30, 2007. The project WWTP will continue to discharge 30,000 gpd of treated sewage effluent to an unnamed tributary of the Equinunk Creek, which is a tributary of the Delaware River. The facility is located in Buckingham Township, Wayne County, Pennsylvania, and is located within the drainage area of the section of the non-tidal Delaware River known as the Upper Delaware, which is classified as Special Protection Waters.

10. Lehigh County Authority, D-2010-001 CP-1. An application for approval of the existing 0.06 mgd Wynnewood Terrace WWTP. The Wynnewood Terrace WWTP discharges to the Lehigh River at River Mile 183.66—28.14 (Delaware River—Lehigh River) and is located in North Whitehall Township, Lehigh County, Pennsylvania within the drainage area of the section of the non-tidal Delaware River known as the Lower Delaware, which is classified as Special Protection Waters.

11. Lynn Township Sewer Authority, D-1977-041 CP-2. An application for approval of an expansion of the existing Lynn Township Sewer Authority WWTP. The 0.08 mgd WWTP will be expanded to treat an average annual daily flow rate of 0.16 mgd. The WWTP will continue to discharge to Ontelaunee Creek, which is a tributary of the Schuylkill River. The facility is located in Lynn Township, Lehigh County, Pennsylvania.

12. Upper Gwynedd Township, D-1991-088 CP-5. An application for approval of the modification of the Upper Gwynedd Township Wastewater Treatment Plant (WWTP). The docket holder proposes to replace the current disinfection system (chlorine contact tanks) with an ultraviolet light (UV) disinfection system. The WWTP will continue to treat an average annual flow of 5.7 mgd and discharge treated sewage effluent to the Wissahickon Creek, a tributary of the Schuylkill River. The facility is located in Upper Gwynedd Township, Montgomery County, Pennsylvania.

13. Borough of Bally, D-1994-044 CP-2. An application for approval to increase the discharge from the Bally WWTP from 0.2 mgd to 0.5 mgd. Docket No. D-1994-044 CP-1 approved the construction of a 0.5 mgd WWTP but limited the discharge to 0.2 mgd. In 1996 the Borough of Bally Municipal Authority obtained PADEP approval to discharge at the WWTP design flow of 0.5 mgd. The Borough now seeks DRBC's approval for the larger discharge. In addition, the Borough of Bally has requested that DRBC issue a Transfer of Ownership to record that the Borough and not the Municipal Authority (which no longer exists) currently owns the facility. The Bally WWTP will continue to discharge to the West Branch of the Perkiomen Creek at River Mile 92.47—32.08—18.65—5.20—3.55 (Delaware River—Schuylkill River—Perkiomen Creek—Green Lane Reservoir—West Branch Perkiomen Creek) and is located in Washington Township, Berks County, Pennsylvania.

14. Lyons Borough Municipal Authority, D-1994-080 CP-2. An application for approval to expand and upgrade the Lyons Borough Municipal Authority WWTP from 0.2 mgd to 0.3 mgd. Modifications will include phosphorous removal by chemical precipitation, effluent filtering, and replacement of the existing gas chlorination system with UV disinfection. The increase in annual average flow is proposed to treat additional industrial process water from East Penn Manufacturing Company, an existing industrial wastewater discharger to the WWTP. The WWTP will continue to discharge to Saucony Creek, a tributary of Maiden Creek, which is a tributary of the Schuylkill River. The project is located in the Borough of Lyons, Berks County, Pennsylvania.

15. Plumstead Township, D-1997-033 CP-3. An application for approval of a groundwater withdrawal to supply up to 4.1 mgm of water to the docket holder's public water supply system from new Well No. 6 and to retain the existing withdrawal limit for all wells of 15.82 mgm. The project wells are located in the Brunswick Group, Lockatong Formation and Stockton Formation in Plumstead Township, Bucks County, Pennsylvania. The project wells are in the following subbasins of the Southeastern Pennsylvania Ground Water Protected Area: Tohickon-Geddes-Cabin runs, Pine Run, and North Branch Neshaminy Creek.

16. Superior Water Company, D-2001-015 CP-2. An application for the renewal of a groundwater withdrawal, consolidation of one docket and two GWPA permits, and to increase the withdrawal from all wells from 23.4 million gallons per 30 days (mg/30 days) to 36.82 mgm of water to the docket holder's distribution system. The increased allocation is requested in order to meet projected increases in service area demand. The ten project wells are constructed in the Brunswick, Lockatong and Leithsville Formations. The project is located in the Zacharias Creek, Scioto Creek and Minister Creek watersheds in Upper Frederick, Douglass, New Hanover, and Worcester townships in Montgomery County, Pennsylvania within the Southeastern Pennsylvania Ground Water Protected Area.

17. Tidewater Utilities, Inc.—Camden District, D-2004-024 CP-3. An application for modification of an existing groundwater withdrawal project to include new Wells Nos. 222367 and 178898 completed in the Cheswold and Frederica aquifers, respectively. No increase is proposed in the previous allocation of 88.977 mg/30 days. The wells were installed to meet projected increases in service area demand. The project is located in the Saint Jones River Watershed in Dover West Township, Kent County, Delaware.

18. Borough of Freeland Municipal Authority, D-1965-052 CP-3. An application for approval of an expansion of the existing borough of Freeland Municipal Authority Wastewater Treatment Plant (WWTP) from 0.75 mgd to 1.2 mgd and to replace the existing trickling filter treatment system with a conventional activated sludge treatment process. The WWTP will continue to discharge to Pond Creek, a tributary of Sandy Run, which is a tributary of the Lehigh River. The project WWTP is located within the drainage area of the section of the non-tidal Delaware River known as the Lower Delaware, which is classified as Special Protection Waters. The facility is located in Foster Township, Luzerne County, Pennsylvania.

19. East Vincent Municipal Authority, D-2005-007 CP-1. An application to rerate a 48,800 gpd sewage treatment plant (STP) to process a maximum monthly flow of 52,900 gpd, while continuing to provide tertiary treatment. The project will continue to serve flows from the built-out residential development known as Bartons Meadows in East Vincent Township, Chester County, Pennsylvania. The additional 4,000 gpd is needed to handle wet weather related flows due to inflow and infiltration. Following ultraviolet light disinfection, STP effluent will continue to be discharged to subsurface seepage beds in the drainage area of French Creek, which is designated as a Scenic River in the DRBC Comprehensive Plan. The project is located in the Schuylkill River Watershed within the Southeastern Pennsylvania Ground Water Protected Area, off Sheeder Road just north of its intersection with Pughtown Road.

20. Naval Surface Warfare Center, Carderock Division, Ship Systems Engineering Station D-2009-003-1. An application for approval of a surface water withdrawal of 1,100.24 mg/30 days from an existing surface water intake. The existing Naval Surface Warfare Center, Carderock Division, Ship Systems Engineering Station currently withdraws surface water from the Philadelphia U.S. Naval Shipyard Reserve Basin located on the Schuylkill River immediately upstream of the confluence of the Schuylkill River with the Delaware River. The surface water withdrawal is used for non-contact cooling water. The facility is located in the City of Philadelphia, Philadelphia County, Pennsylvania.

21. Naval Surface Warfare Center, Carderock Division, Ship Systems Engineering Station, D-2009-004-1. An application for approval of a non-contact cooling water (NCCW) discharge from two existing (2) outfalls owned and operated by Naval Surface Warfare Center, Carderock Division, Ship Systems Engineering Station (NSWCCD-SSES): 1) Outfall 001 is located on the Navy Reserve Basin, and the application includes increasing the discharge of NCCW from 24.0 mgd to 36.0 mgd; and 2) Outfall 005 is located on the Delaware River in Water Quality Zone 4 and will continue to discharge up to 0.60 mgd. The Navy Reserve Basin is located on the Schuylkill River immediately upstream of its confluence with the Delaware River. The facility is located in the Schuylkill River Watershed in the City of Philadelphia, Philadelphia County, Pennsylvania.

22. Deb-El Food Products, D-2009-036-1. An application for approval to construct a 0.05 mgd industrial waste treatment plant (IWTP) that will discharge to the Neversink River at River Mile 253.64—28.7 (Delaware River—Neversink River) in the drainage area of the section of the non-tidal Delaware River known as the Middle Delaware, which is classified as Special Protection Waters. The IWTP is located in the Town of Thompson, Sullivan County, New York.

23. ArcelorMittal Plate, LLC—Conshohocken, D-2009-039-1. An application for approval of a groundwater and surface water withdrawal project to supply up to 13.4 mgm of groundwater and 46.5 mgm of surface water to the applicant's industrial process from the existing Q&T Well and existing surface water intake. Surface water will be withdrawn from the Schuylkill River in the Schuylkill-Crow Creek Watershed. The well is located in the Elbrook Formation in the Schuylkill-Crow Creek Watershed in Plymouth Township, Montgomery County, Pennsylvania in the Southeastern Pennsylvania Ground Water Protected Area.

24. Wallenpaupack Area School District, D-2009-027 CP. An application for approval of the existing Newfoundland Elementary School WWTP. The WWTP will continue to discharge an average annual flow of 0.01 mgd of treated sewage effluent to Wallenpaupack Creek, a tributary of the Lackawaxen River. The facility is located in Dreher Township, Wayne County, Pennsylvania, within the drainage area of the section of the non-tidal Delaware River known as the Upper Delaware, which is classified as Special Protection Waters.

25. Green Top Management, LLC, D-2010-002 CP-1. An application for approval of an expansion of the Green Top Mobile Home Park WWTP from 12,000 gpd to 18,000 gpd. The expansion includes the addition of a sequencing batch reactor unit. The WWTP will continue to discharge to an unnamed tributary of the Tohickon Creek, which is located upstream of Lake Nockamixon. The project is located within the drainage area of the section of the non-tidal Delaware River known as the Lower Delaware, which is classified as Special Protection Waters. The facility is located in West Rockhill Township, Bucks County, Pennsylvania.

26. NIS Hollow Estates, LLC, D-2010-003 CP-1. An application for approval of the existing NIS Hollow Estates, LLC WWTP. The WWTP will continue to discharge 18,000 gpd of treated sewage effluent to an unnamed tributary of the Lehigh River. The facility is located in East Penn Township, Carbon County, Pennsylvania, within the drainage area of the section of the non-tidal Delaware River known as the Lower Delaware, which is classified as Special Protection Waters.

In addition to the standard business meeting items, including adoption of the Minutes of the Commission's May 5, 2010 business meeting; announcements of upcoming meetings and events; a report on hydrologic conditions; and reports by the Executive Director and the Commission's General Counsel; the business meeting will include public hearings and consideration by the Commission of resolutions: (a) Approving the Commission's FY 2010-2015 Water Resources Program; (b) authorizing the Executive Director to require effluent nutrient monitoring by point source dischargers in Zones 2 through 6 of the Delaware Estuary; and (c) authorizing the Executive Director to enter into a contract for laboratory analysis of soil and water samples in connection with the control of polychlorinated biphenyls (PCBs) in the Delaware Estuary. The section of the meeting consisting of the General Counsel's report will include consideration by the Commission of two requests for hearing filed with the Commission in May 2010—one by Damascus Citizens for Sustainability concerning the applicability of the Commission's section 3.8 project review procedure to certain exploratory natural gas well projects sponsored by Newfield-Appalachia PA, LLC; and the other, jointly by the Delaware Riverkeeper Network and Nockamixon Township concerning the applicability of the Section 3.8 review procedure to the Cabot #2 natural gas well project sponsored by Arbor Operating, LLC in Nockamixon Township. The Commissioners also will consider draft water withdrawal Docket No. D-2009-013-1 for the Stone Energy Corporation, on which a hearing was conducted on February 24, 2010 and for which the written comment period opened on February 8, 2010 and closed on April 12, 2010. No additional testimony on the latter project will be accepted. An opportunity for public dialogue will be provided at the end of the meeting.

Draft dockets scheduled for public hearing on July 14, 2010 can be accessed through the Notice of Commission Meeting and Public Hearing on the Commission's website, drbc.net, ten days prior to the meeting date. Additional public records relating to the dockets may be examined at the Commission's offices. Please contact William Muszynski at 609-883-9500, extension 221, with any docket-related questions.

Note that conference items are subject to change and items scheduled for hearing are occasionally postponed to allow more time for the Commission to consider them. Please check the Commission's website, drbc.net, closer to the meeting date for changes that may be made after the deadline for filing this notice.

Individuals in need of an accommodation as provided for in the Americans with Disabilities Act who wish to attend the informational meeting, conference session or hearings should contact the Commission Secretary directly at 609-883-9500 ext. 203 or through the Telecommunications Relay Services (TRS) at 711, to discuss how the Commission can accommodate your needs.

Dated: June 22, 2010.
Pamela M. Bush,
Commission Secretary.

[FR Doc. 2010-15723 Filed 6-28-10; 8:45 am]

BILLING CODE 6360-01-P